DEPARTMENT OF THE INTERIOR

Fish and Wildlife Service

Draft Environmental Impact Statement on Double-Crested Cormorants; Extension of Comment Period

AGENCY: Fish and Wildlife Service, Interior.

ACTION: Notice of availability for public comment; extension of comment period.

SUMMARY: The U.S. Fish and Wildlife Service (Service) is extending the comment period on a Draft Environmental Impact Statement (DEIS) that is available for public review. The DEIS analyzes the potential environmental impacts of alternative strategies to reduce damages associated with double-crested cormorants in the continental United States. The analysis provided in the DEIS is intended to accomplish the following: inform the public of the proposed action and alternatives; address public comment received during the scoping period; and disclose the direct, indirect, and cumulative environmental effects of the proposed actions and each of the alternatives. The Service invites the public to comment on the DEIS.

DATES: Written comments on the DEIS must be received on or before May 16, 2003.

ADDRESSES: Mail requests for copies of the DEIS to Chief, Division of Migratory Bird Management, U.S. Fish and Wildlife Service, 4401 North Fairfax Drive, MBSP-4107, Arlington, Virginia 22203. You can also download copies of the DEIS from the Division of Migratory Bird Management Web site at http://migratorybirds.fws.gov/issues/cormorant/deis/deis.html. Send comments on the DEIS to the above address. Alternatively, you may submit comments electronically to the following address: cormorants@fws.gov. The public may inspect comments during normal business hours in Room 4701, 4501 North Fairfax Drive, Arlington, Virginia.

FOR FURTHER INFORMATION CONTACT: Brian Millsap, Chief, Division of Migratory Bird Management, or Shauna Hanisch (703) 358-1714.

SUPPLEMENTARY INFORMATION: On December 3, 2001, we published a notice of availability in the Federal Register (66 FR 60218) to announce that the DEIS on double-crested cormorant management was available for public comment. On December 19, 2001, we published a Federal Register notice of meetings and extension of the comment period (66 FR 65510) to announce the schedule of public hearings to invite further public participation in the DEIS review process.

The DEIS evaluates alternative strategies to reduce damages associated with double-crested cormorants in the continental United States. The DEIS is a comprehensive programmatic plan intended to guide and direct double-crested cormorant management activities. The DEIS examined six management alternatives for addressing conflicts with double-crested cormorants: (A) No action, (B) Nonlethal control, (C) Increased local damage control, (D) Public resource depredation order, (E) Regional population reduction, and (F) Regulated hunting. The proposed action/preferred alternative in the DEIS was alternative D, Public resource depredation order. This alternative entails: revising the existing aquaculture depredation order that applies to commercial freshwater aquaculture facilities and hatcheries to allow winter roost control; establishing a new depredation order to protect public resources from cormorant damages; and revising Director's Order 27 to allow lethal take of double-crested cormorants at public fish hatcheries. Alternative D is intended to enhance the ability of resource agencies to deal with cormorant damages in an effective and timely manner by giving them more regulatory flexibility. In the DEIS, alternatives were analyzed with regard to their potential impacts on double-crested cormorant populations, fish, other birds, vegetation, federally-listed threatened and endangered species, and socioeconomics.

On March 17, 2003 (68 FR 12653), we published a proposed rule in the Federal Register that would implement our preferred alternative. Because of the publication of the proposed rule, we have extended the comment period on the DEIS. We note that the proposed rule presents the preferred alternative in a more detailed manner than the DEIS and advise the reader to refer to it. It is available at our Web site http://migratorybirds.fws.gov. The Service invites careful consideration by all parties, and welcomes serious scrutiny from those committed to the long-term conservation of migratory birds.

In order to be considered, electronic submission of comments must include your name and postal mailing address; we will not consider anonymous comments. All comments received, including names and addresses, will become part of the public record. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

Dated: March 24, 2003.
Paul R. Schmidt,
Assistant Director, Migratory Birds and State Programs.

[FR Doc. 03-7474 Filed 3-27-03; 8:45 am]

BILLING CODE 4310-55-P